DEPARTMENT OF TRANSPORTATION

Federal Motor Carrier Safety Administration

[Docket No. FMCSA-2024-0124]

Transparency in Fees Commercial Motor Vehicle Operators are Charged for Towing and Recovery Services

AGENCY: Federal Motor Carrier Safety Administration (FMCSA), Department of Transportation (DOT).

ACTION: Notice of public meeting.

SUMMARY: FMCSA announces a public meeting to engage stakeholders, which includes motor carriers, towing and recovery services for commercial motor vehicle (CMV) operations, and other interested parties, to get their perspective on current industry practices regarding the disclosure of towing fees to the CMV owners and whether the owner is made aware of costs and fees prior to the tow.

DATES: The meeting will be held on June 21, 2024, from 9 a.m. to 12 p.m. eastern standard time (EST). A copy of the agenda will be available in advance of the meeting at https://www.fmcsa.dot.gov/towingfees/fmcsa-towing-fees-public-meeting. Individuals unable to participate in the public meeting may submit written comments to the docket listed at the beginning of this notice. Written comments concerning the disclosure of towing fees to CMV owners should be submitted by July 1, 2024.

ADDRESSES: The meeting will be held at the DOT Headquarters Building, 1200 New Jersey Avenue SE, Washington, DC 20590-0001. Those interested in attending this public meeting in person should register at https://www.fmcsa.dot.gov/towingfees/fmcsa-towing-fees-public-meeting by 11:59 p.m. EST, on June 11, 2024. There will be room for 50 persons and there will be a virtual option. Attendees should arrive at the DOT Headquarters Building by 8:30 a.m. to allow sufficient time to clear security.

Interested parties may submit comments identified by Docket Number FMCSA-2024-0124 using any of the following methods:

• Federal eRulemaking Portal: Go to https://www.regulations.gov/docket/FMCSA-2023-0124/document. Follow the online instructions for submitting comments.

• Mail: Dockets Operations, U.S. Department of Transportation, 1200 New Jersey Avenue SE, West Building, Ground Floor, Washington, DC 20590-0001.

• Hand Delivery or Courier: Dockets Operations, U.S. Department of Transportation, West Building, Ground Floor, 1200 New Jersey Avenue SE, Washington, DC, between 9 a.m. and 5 p.m., Monday through Friday, except Federal holidays.

• Fax: (202) 493-2251.

• Submissions Containing Confidential Business Information (CBI): Brian Dahlin, Chief, Regulatory Evaluation Division, FMCSA, 1200 New Jersey Avenue SE, Washington, DC 20590.

To avoid duplication, please use only one of these four methods. See the “Confidential Business Information” portion of the SUPPLEMENTARY INFORMATION section for instructions on submitting comments.

FOR FURTHER INFORMATION CONTACT: Larry W. Minor, Associate Administrator for Policy, FMCSA, 1200 New Jersey Avenue SE, Washington, DC 20590-0001; (202) 366-4012; larry.minor@dot.gov.

Services for individuals with disabilities: For information on facilities or services for individuals with disabilities or to request special assistance at the meeting, contact Larry W. Minor using one of the above means by 11:59 p.m. EST, on June 7, 2024.

SUPPLEMENTARY INFORMATION:

A. Submitting Comments

If you want to submit a comment on this subject, please include the docket number for this notice (FMCSA-2024-0124). You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2024-0124/document, click on this notice, click “Comment,” and type your comment into the text box on the following screen.

If you submit your comments by mail or hand delivery, submit them in an unbound format, no larger than 8½ by 11 inches, suitable for copying and electronic filing. FMCSA will consider all comments and material received during the comment period.

Confidential Business Information (CBI)

CBI is commercial or financial information that is both customarily and actually treated as private by its owner. Under the Freedom of Information Act (5 U.S.C. 552), CBI is exempt from public disclosure. If your comments responsive to this notice contain commercial or financial information that is customarily treated as private, that you actually treat as private, it is important that you clearly designate the submitted comments as CBI. Please mark each page of your submission that constitutes CBI as “PROPIN” to indicate it contains proprietary information. FMCSA will treat such marked submissions as confidential under the Freedom of Information Act, and they will not be placed in the public docket for this meeting. Submissions containing CBI should be sent to Brian Dahlin, Chief, Regulatory Analysis Division, Office of Policy, FMCSA, 1200 New Jersey Avenue SE, Washington, DC 20590-0001. Any comments FMCSA receives not specifically designated as CBI will be placed in the public docket.

B. Viewing Comments and Documents

To view comments, as well as notes from this public meeting, go to https://www.regulations.gov/docket/FMCSA-2024-0124/document and choose the document to review. To view comments, click this notice, and click “Browse Comments.” If you do not have access to the internet, you may view the docket online by visiting Dockets Operations on the ground floor of the DOT West Building, 1200 New Jersey Avenue SE, Washington, DC 20590, between 9 a.m. and 5 p.m. EST, Monday through Friday, except Federal holidays. To be sure someone is there to help you, please call (202) 366-9317 or (202) 366-9826 before visiting Dockets Operations.

C. Privacy Act

DOT posts comments received, including any personal information the commenter provides, to www.regulations.gov, as described in the system of records notice (DOT/ALL-14 FDMS), which can be reviewed at www.transportation.gov/privacy. The comments are posted without edit and are searchable by the name of the submitter.

D. Background

On November 9, 2023, the Federal Trade Commission published a notice of proposed rulemaking (NPRM), “Rule on Unfair or Deceptive Fees,” which would prohibit unfair or deceptive practices relating to fees for goods or services, specifically, misrepresenting the total costs of goods and services by omitting mandatory fees from advertised prices and misrepresenting the nature and purpose of fees (88 FR 77420). On February 7, 2024, FMCSA submitted comments in response to the NPRM. A copy of the FMCSA comments is included in the public docket identified above.

FMCSA believes FTC's proposed regulation may significantly benefit the Agency's regulated community, specifically as it relates to the predatory towing practices that have a substantial financial impact on CMV owners and operators. There are two contexts in which predatory towing of CMVs may take place: consensual or nonconsensual. The consensual context usually occurs following a vehicle accident or malfunction where the CMV owner or operator has requested towing service and given permission for the towing company to tow the vehicle. The nonconsensual context most often occurs when an unlawfully parked vehicle is removed from public or private property at the request of a law enforcement officer or a property owner and the CMV owner or operator has not given permission for the towing.

Once towed, CMV owners and operators are in a very vulnerable position and highly susceptible to predation. Predatory towing companies can use their possession of the vehicle as leverage to price gouge and otherwise prey upon CMV owners and operators who are in no position to push back. The nature of the business means that when CMV owners' and operators' vehicles are towed, they are typically not dealing with companies with which they have established business relationships. Many CMV owners and operators drive long distances and travel interstate, and, accordingly, may find their vehicles in need of towing without a familiar towing company nearby. The Agency believes these circumstances set the stage for predatory towing incidents.

FMCSA also notes that towing companies have taken issue with this characterization of the fees towing companies charge. Their lead trade association for the towing and recovery industry acknowledges that there are towing companies that engage in predatory behavior but that some of the fees identified by FMCSA are valid and necessary for towing companies to operate and keep the roads clear of disabled vehicles. The towing industry does not believe that the fees charged by towing companies are of the nature that the FTC should regulate in its rulemaking.

Public Meeting Information

This meeting is intended for interested parties, including motor carriers and representatives of towing and recovery service providers to discuss common trends in invoicing in commercial towing circumstances, with the aim of learning about trends in particular regions or in particular types of tows (e.g., commercial vehicle tows in response to traffic incidents, non-emergency tows). FMCSA believes predatory towing negatively impacts CMV drivers and trucking companies and that this practice is detrimental to the overall health of the trucking industry. To the extent that tow truck companies are charging legitimate fees, those fees should be transparent and well-communicated. Therefore, consistent with the Agency's safety mission, FMCSA encourages interested parties to participate in this dialogue and to share information on current practices and the impact these hidden fees have on small businesses' ability to operate safely. FMCSA intends for this meeting to serve as a forum for diverse stakeholders to interact and identify fees and practices that are legitimate and necessary to keep the roads clear of disabled vehicles, while establishing best practices to prevent rogue industry participants from engaging in predatory behavior by charging unfair or deceptive fees.

The full meeting agenda will be available on the registration site (see ADDRESSES above for instructions on meeting registration) in advance of the meeting.

Sue Lawless,
Acting Deputy Administrator.

[FR Doc. 2024-11957 Filed 5-30-24; 8:45 am]

BILLING CODE 4910-EX-P